DEPARTMENT OF THE INTERIOR

Bureau of Land Management

[OR-957-00-1420-BJ: GP05-0078]

Filing of Plats of Survey: Oregon/Washington

March 9, 2005.

AGENCY: Bureau of Land Management.

ACTION: Notice.

SUMMARY: The plats of survey of the following described lands were officially filed in the Oregon State Office, Portland, Oregon, on December 15, 2004.

Willamette Meridian

Oregon

T. 37 S., R. 8 W., accepted November 1, 2004.

T. 31 S., R. 8 W., accepted November 1, 2004.

Washington

T. 28 N., R. 38 E., accepted November 1, 2004.

The plats of survey of the following described lands were officially filed in the Oregon State Office, Portland, Oregon, on December 20, 2004.

Willamette Meridian

Oregon

T. 23 S., R. 6 W., accepted, November 3, 2004.

T. 25 S., R. 3 W., accepted, November 3, 2004.

T. 29 S., R. 7 W., accepted , November 3, 2004.

Tps. 29 & 29½ S., Rgs. 7 & 8 W., accepted November 3, 2004.

T. 29 S., R. 6 W., accepted November 3, 2004.

T. 26 S., R. 2 W., accepted November 3, 2004.

T. 24 S., R. 4 W., accepted November 3, 2004.

T. 24 S., R. 6 W., accepted November 3, 2004.

T. 30 S., R. 6 W. accepted November 3, 2004.

T. 30 S., R. 15 W. accepted November 15, 2004.

T. 27 S., R. 9 W., accepted November 15, 2004.

T. 28 S., R. 9 W., accepted November 15, 2004.

T. 32 S., R. 7 W., accepted November 15, 2004.

T. 27 S., R. 11 W., accepted November 15, 2004.

T. 8 W., R. 8 W., accepted November 15, 2004.

Washington

T 22 N., R. 11 W., accepted November 1, 2004.

The plats of survey of the following described lands were officially filed in the Oregon State Office, Portland, Oregon, on February 11, 2005.

Willamette Meridian

Oregon

T. 1 S., R. 8 W., accepted November 2, 2004.

T. 20 S., R. 1 W., accepted November 15, 2004.

T. 31 S., R. 6 W., accepted November 15, 2004.

T. 25 S., R. 8 W., accepted December 6, 2004.

T. 29 S., R. 3 W., accepted December 6, 2004.

T. 1 S., R. 38 E., accepted December 17, 2004.

T. 25 S., R. 5 W., accepted January 14, 2005.

A copy of the plat may be obtained from the Public Room at the Oregon State Office, Bureau of Land Management, 333 SW. 1st Avenue, Portland, Oregon 97204, upon required payment. A person or party who wishes to protest against a survey must file a notice that they wish to protest (at the above address) with the State Director, Bureau of Land Management, Portland, Oregon.

FOR FURTHER INFORMATION CONTACT: Chief, Branch of Geographic Sciences, Bureau of Land Management, (333 SW. 1st Avenue) P.O. Box 2965, Portland, Oregon 97208.

Robert D. DeViney, Jr.,
Branch of Realty and Records Services.

[FR Doc. 05-5355 Filed 3-17-05; 8:45 am]

BILLING CODE 4310-33-P